DEPARTMENT OF LABOR

Comment Request for Information Collection for the Youth Career Connect Grant Program, New Collection

AGENCY: Office of the Assistant Secretary for Policy, Department of Labor.

ACTION: Notice.

SUMMARY: The Department of Labor, as part of its continuing effort to reduce paperwork and respondent burden, conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents are properly assessed. Currently, the Department of Labor is soliciting comments concerning the collection of data about Youth Career Connect (YCC) [SGA/DFA PY-13-01] grant program.

A copy of the proposed Information Collection Request (ICR) can be obtained by contacting the office listed below in the addressee section of this notice.

DATES: Written comments must be submitted to the office listed in the addressee's section below on or before September 30, 2014.

ADDRESSES: Submit written comments to Office of the Assistant Secretary for Policy, 200 Constitution Avenue NW., Room S-2312, Washington, DC 20210, Attention: Evan Rosenberg. Telephone number: 202-693-3949 (this is not a toll-free number). Fax: 202-693-3593. Email: ycc@dol.gov.

SUPPLEMENTARY INFORMATION:

I. Background

In applying for the YCC grant program, grantees agreed to submit participant-level data and quarterly aggregate reports for individuals who receive services through YCC programs and their partnerships with entities administering the workforce investment system as established under Section 1169(b) and 117 of the Workforce Investment Act of 1998 (WIA), Local Education Agencies (LEA's), non-profit organizations with program model experience, education and training providers such as community colleges and other institutions of higher education and employer partners. The reports will include aggregate data on demographic characteristics, types of services received, placements, program outcomes, and follow-up status. Specifically, they will summarize data on participants who received core YCC program services, program enrollment, retention and credential rates, placement services, and other services essential to successful outcomes for YCC program participants.

This document requests approval for a new information collection to meet the reporting and recordkeeping requirements of the YCC grant program.

Five outcome measures will be used to measure success in the YCC grant programs:

Long-Term Measures

• Final Program Retention Rate—the percentage of participants who complete the program, of those who enter the program;

• High School Diploma Attainment Rate—the percentage of participants who attain a high-school diploma;

• Credential Attainment Rate—the percentage of participants who attain an industry-recognized credential in the specified H-1B industry or occupation;

• Diploma and Credential Attainment Rate—the percentage of participants who attain a high-school diploma and credential in the specified H-1B industry or occupation; and

• Placement Rate—the percentage of participants who are placed in one of the following: Unsubsidized employment, post-secondary education, occupational skills training, or Registered Apprenticeship. (The performance report also will include separate counts of the number of participants who enter unsubsidized employment, enter post-secondary education, enter occupational skills training, and enter a Registered Apprenticeship.)

In addition to the five outcome measures described above, grantees will report on a number of leading indicators that serve as predictors of success. These indicators include the following short and long-term measures:

Short-Term Measures

• Enrollment Rate—the number of participants enrolled in the program compared to the target number of participants identified in the grant application;

• Attendance Rate—the rate of school attendance by participants in the program;

• Chronic Absence Rate—the percentage of participants who have missed 10 percent of school days for any reason-excused or unexcused—as well as suspensions;

• Mentoring Rate—percentage of participants who have matched mentors and participate in formal mentoring;

• Yearly Program Retention Rate—percentage of participants who continue in program from one school year to the next;

• Work Readiness Indicator—the percentage of participants who are deemed work ready based on an employer evaluation conducted at the end of each internship/work experience (using the DOL-developed work readiness tool found at: http://wdr.doleta.gov/directives/attach/TEGL/TEGL07-10a4.pdf);

• Internship Placement and Completion Rates—the percentage of program participants who begin an internship and, of those who begin an internship, the percentage who complete;

• Post-Secondary Credit Attainment Rate—the percentage of participants who attain post-secondary education credit from courses taken during the program; and

• Average Post-Secondary Credit Hours Attained—the average number of post-secondary credits attained per participant while in the program.

This information collection maintains a reporting and record-keeping system for a minimum level of information collection that is necessary to comply with Equal Opportunity requirements, to hold YCC grantees appropriately accountable for the Federal funds they receive, allowing the Department to fulfill its oversight and management responsibilities.

The information collection for YCC grantee performance reporting includes setting up an online Participant Tracking System (PTS) that will collect participant-level data.

II. Review Focus

The Department of Labor is particularly interested in comments which:

• Evaluate whether the proposed collection of information is necessary for the proper performance functions of the agency, including whether the information will have practical utility;

• Evaluate the accuracy of the agency's burden estimate of the proposed information collection, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: New collection.

Title: Youth Career Connect (YCC) grant program.

OMB Number: OMB Control Number 1205-0NEW.

Affected Public: YCC Grantees and program participants.

Form(s): Total Annual Respondents—24 grantees.

Annual Frequency: Quarterly.

Comments submitted in response to this comment request will be summarized and/or included in the request for Office of Management and Budget approval of the information collection request; they will also become a matter of public record.

James H. Moore, Jr.,
Deputy Assistant Secretary for Policy, U.S. Department of Labor.

[FR Doc. 2014-18181 Filed 7-31-14; 8:45 am]

BILLING CODE 4510-23-P